NUCLEAR REGULATORY COMMISSION

Sunshine Federal Register Notice

Agency Holding the Meetings: Nuclear Regulatory Commission

Date: Weeks of January 22, 29, February 5, 12, 19, 26, 2007

Place: Commissioners' Conference Room, 11555 Rockville Pike, Rockville, Maryland.

Status: Public and Closed.

Matters to be Considered:

Week of January 22, 2007

Monday, January 22, 2007

1:25 p.m.—Affirmation Session (Public Meeting) (Tentative)

a. Entergy Nuclear Vermont Yankee, LLC, & Entergy Nuclear Operations, Inc. (Vermont Yankee Nuclear Power Station), LBP-06-20 (9/22/06): Entergy Nuclear Generation Company & Entergy Nuclear Operations, Inc. (Pilgrim Nuclear Power Station), LBP-06-23 (10/16/06) (Tentative.)

b. Exelon Generation Company, LLC (Early Site Permit for Clinton ESP) (Tentative).

1:30 p.m. Discussion of Security Issues (Closed-Ex. 1).

Tuesday, January 23, 2007

1:30 p.m.—Joint Meeting with Federal Energy Regulatory Commission on Grid Reliability (Public Meeting) (Contact: Mike Mayfield, 301 415-0561).

This meeting will be webcast live at the Web address— http://www.nrc.gov.

Week of January 29, 2007—Tentative

Monday, January 29, 2007

10:50 a.m.—Affirmation Session (Public Meeting) (Tentative)

a. Final Rulemaking to Revise 10 CFR 73.1, Design Basis Threat (DBT) Requirements (Tentative).

b. AmerGen Energy Company, LLC (License Renewal for Oyster Creek Nuclear Generating Station) Docket No. 50-0219, Remaining Legal challenges to LBP-06-07 (Tentative).

c. Nuclear Management Co., LLC (Palisades Nuclear Plant, license renewal application); response to “Notice” relating to San Louis Obispo Mothers for Peace (Tentative).

d. System Energy Resources, Inc. (Early Site Permit for Grand Gulf ESP Site); response to NEPA/terrorism issue (Tentative).

e. Pacific Gas & Electric Co. (Diablo Canyon ISFSI), Docket No. 72-26-ISFSI, response to the Supreme Court's potential denial of certiorari (Tentative).

Tuesday, January 30, 2007

10 a.m.—Discussion of Security Issues (Closed-Ex. 3).

Wednesday, January 31, 2007

9:30 a.m.—Discussion of Security Issues (Closed-Ex. 1 & 3). To be held at Department of Homeland Security Headquarters, Washington, DC.

Thursday, February 1, 2007

9:25 a.m.—Affirmation Session (Public Meeting) (Tentative).

a. USEC, Inc. (American Centrifuge Plant) (Tentative).

9:30 a.m.—Discussion of Management Issues (Closed-Ex. 2).

1:30 p.m.—Briefing on Strategic Workforce Planning and Human Capital Initiatives (Public Meeting) (Contact: Mary Ellen Beach, 301 415-6803).

This meeting will be webcast live at the Web address— http://www.nrc.gov.

Week of February 5, 2007—Tentative

There are no meetings scheduled for the Week of February 5, 2007.

Week of February 12, 2007—Tentative

Thursday, February 15, 2007

9:30 a.m.—Briefing on Office of Chief Financial Officer (OCFO) Programs, Performance, and Plans (Public Meeting) (Contact: Edward New, 301 415-5646).

This meeting will be webcast live at the Web address— http://www.nrc.gov.

Week of February 19, 2007—Tentative

There are no meetings scheduled for the Week of February 19, 2007.

Week of February 26, 2007—Tentative

Wednesday, February 28, 2007

9:30 a.m.—Periodic Briefing on New Reactor Issues (Public Meeting) (Contact: Donna Williams, 301 415-1322).

This meeting will be webcast live at the Web address— http://www.nrc.gov.

* * * * *

The schedule for Commission meetings is subject to change on short notice. To verify the status of meetings call (recording)—(301) 415-1292. Contact person for more information: Michelle Schroll, (301) 415-1662.

* * * * *

The NRC Commission Meeting Schedule can be found on the Internet at: http://www.nrc.gov/what-we-do/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, Deborah Chan, at 301-415-7041, TDD: 301-415-2100, or by e-mail at DLC@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

January 18, 2007.
R. Michelle Schroll,
Office of the Secretary.

[FR Doc. 07-279 Filed 1-19-07; 11:11 am]

BILLING CODE 7590-01-P